DEPARTMENT OF TRANSPORTATION

Research and Special Programs Administration

Hazardous Materials Transportation: Status of Applications for Preemption Determination

AGENCY: Research and Special Programs Administration (RSPA), DOT.

ACTION: Notice Regarding Preemption Determinations Delayed Beyond 180 Days.

SUMMARY: This notice advises interested parties that RSPA's Office of the Chief Counsel maintains (on its internet website and in paper form) a chart showing the current status of each administrative proceeding on applications for a determination that Federal hazardous material transportation law preempts requirements of States, political subdivisions of States, or Indian tribes. When a decision has not been issued within 180 days after publication of a notice of the application in the Federal Register, this chart includes the reasons why the decision is delayed and an estimate of the additional time necessary before the decision will be issued. This chart is intended to provide more up-to-date information on the status of preemption applications than a single notice in the Federal Register whenever a decision has not been issued within 180 days after publication of the notice of the application.

FOR FURTHER INFORMATION CONTACT: Edward H. Bonekemper, III, Assistant Chief Counsel for Hazardous Materials Safety and Research and Technology Law, Research and Special Programs Administration, U.S. Department of Transportation, 400 Seventh Street, SW, Washington, DC 20590-0001 (Tel. No. 202-366-4400).

SUPPLEMENTARY INFORMATION: Federal hazardous material transportation law, 49 U.S.C. 5101 et seq. (the law), provides an administrative procedure in § 5125(d)(1) for DOT to issue determinations whether a State, local, or Indian tribe requirement on the transportation of hazardous materials is preempted under the criteria set forth in § 5125(a), (b)(1), and (c). RSPA's Office of the Chief Counsel tracks the status of each preemption determination proceeding (both already decided and still pending) on a chart that is kept current on its internet website (http://rspa-atty.dot.gov) and in paper form.

Interested parties may access the current chart at any time by going to the website and clicking on “Preemption.” A printed version of the current chart may also be obtained at any time by contacting Mr. Bonekemper at the address and telephone number set forth in “For Further Information Contact” above.

RSPA also uses this chart to meet the statutory requirement in 49 U.S.C. 5125(d)(1) to advise the public of the reasons for delay, and an estimate of the time when a decision will be made, whenever a decision is not issued within 180 days after the date of publication in the Federal Register of a notice of having received an application for a preemption determination. Because this chart will be kept current, RSPA does not intend to publish a new notice in the Federal Register each time the 180-day period is exceeded in a preemption proceeding. By keeping this chart up-to-date, RSPA will be providing interested parties with more current and complete information than they would have if RSPA published only a single notice in each proceeding advising that a decision would not be issued within 180 days.

Issued in Washington, DC on December 1, 2000.
Elaine E. Joost,
Acting Chief Counsel, Research and Special Programs Administration.

[FR Doc. 00-31250 Filed 12-7-00; 8:45 am]

BILLING CODE 4910-60-P